DEPARTMENT OF ENERGY

Environmental Management Site-Specific Advisory Board, Hanford

AGENCY: Department of Energy.

ACTION: Notice of open meeting.

SUMMARY: This notice announces a meeting of the Environmental Management Site-Specific Advisory Board (EM SSAB), Hanford. The Federal Advisory Committee Act (Pub. L. No 92-463, 86 Stat. 770) requires that public notice of these meeting be announced in the Federal Register.

DATES: Thursday, November 4, 2004, 9 a.m.-4:30 p.m.; Friday, November 5, 2004, 8:30 a.m.-4 p.m.

ADDRESSES: Monarch Hotel & Conference Center, 12566 SE 93rd Avenue, Clackamas, OR 97015, Phone: (503) 652-1515, Fax: (503) 652-7509.

FOR FURTHER INFORMATION CONTACT: Yvonne Sherman, Public Involvement Program Manager, Department of Energy, Richland Operations Office, 825 Jadwin, MSIN A7-75, Richland, WA, 99352; Phone: (509) 376-6216; Fax: (509) 376-1563.

SUPPLEMENTARY INFORMATION: Purpose of the Board: The purpose of the Board is to make recommendations to DOE in the areas of environmental restoration, waste management, and related activities.

Tentative Agenda

Thursday, November 4, 2004

1. Central Plateau Vision Development Discussions/outcomes from the October Committee of the Whole

What are the decisions that agencies need to be making?

What is the information needed to support those decisions?

What tools are being used for analysis and integration?

What are the various waste streams?

What stays at Hanford and what leaves?

2. Update on the River Corridor Contract

3. Follow-up on HAB Priorities for the 2005 Year

4. Stop Work Authority for Construction Workers

5. Minority Outreach (from the Public Involvement Committee)

Friday, November 5, 2004

1. Central Plateau Vision Development (continued discussion)

2. Committee Updates

3. Agency Updates

4. Adoption of Board Advice

5. Identification of Topics for January 2005 Board Meeting

Public Participation: The meeting is open to the public. Written statements may be filed with the Board either before or after the meeting. Individuals who wish to make oral statements pertaining to agenda items should contact Yvonne Sherman's office at the address or telephone number listed above. Requests must be received five days prior to the meeting and reasonable provision will be made to include the presentation in the agenda. The Deputy Designated Federal Officer is empowered to conduct the meeting in a fashion that will facilitate the orderly conduct of business. Each individual wishing to make public comment will be provided equal time to present their comments. This notice is being published less than 15 days before the date of the meeting due to programmatic issues that had to be resolved prior to publication.

Minutes: The minutes of this meeting will be available for public review and copying at the Freedom of Information Public Reading Room, 1E-190, Forrestal Building, 1000 Independence Avenue, SW., Washington, DC 20585 between 9 a.m. and 4 p.m., Monday-Friday, except Federal holidays. Minutes will also be available by writing to Yvonne Sherman, Department of Energy Richland Operation Office, 825 Jadwin, MSIN A7-75, Richland, WA 99352, or by calling her at (509) 376-1563.

Issued at Washington, DC on October 26, 2004.
Rachel M. Samuel,
Deputy Advisory Committee Management Officer.

[FR Doc. 04-24216 Filed 10-28-04; 8:45 am]

BILLING CODE 6450-01-P